DEPARTMENT OF ENERGY

Federal Energy Regulatory Commission

[Docket No. PA02-2-000]

Fact Finding Investigation of Potential Manipulation of Electric and Natural Gas Prices; Notice of Intent to Re-Release Information

May 14, 2003.

On March 5, 2003, the Commission issued a notice that it intended to release to the public information collected in its investigation into the manipulation of energy prices in the west, and sought, by March 12, 2003, comments from those companies and individuals who submitted information during the course of the investigation. On March 21, 2003, the Commission issued an order addressing the comments and responses to its March 5 notice, and further announced that it would release the information, except as noted in the order, in no less than five days after issuance of the order.¹ One exception to the release was personal personnel information. Thereafter, on March 26, 2003, the Commission released the remaining information.

¹ 102 FERC ¶ 61,311 (2003).

Subsequent to the release of the information, on March 28, 2003, the Commission received the first of numerous motions from Enron asking that certain parts of the released information be removed from public access. These motions in particular attempted to identify Enron employees' personal information. The Commission also received calls on its Enforcement Hotline from Enron employees who were concerned about their personal information being available on the internet. As quickly as possible, the Commission staff accommodated these requests in keeping with the Commission's stated concerns in the March 21 order about releasing certain personal data.

On April 7, 2003, the Commission removed all Enron e-mails from its web site. The Commission's action removing the Enron e-mails from its Web site coincided exactly with the United States Court of Appeals for the Fifth Circuit's stay of the March 21 order to the extent the stay action implicated the withdrawal of Enron e-mails from the agency's web site. See Enron Corp. v. FERC, No. 03-60295.

On April 22, 2003, the Commission issued an order stating that it would not re-release any of the documents that respondents sought to be withheld with specificity until the Commission reviewed those documents and gave the respondents and the public notice of its intent to re-release specific documents.² In the April 22 order, the Commission directed its staff to review the data proffered for removal and ascertain whether indeed it should be in the public domain. With respect to the data that was removed from the Commission's Web site pursuant to the April 7 notice but that was not identified by any company or individual for permanent removal, the Commission directed its staff to return that data to the agency's web site.

² 103 FERC ] 61,077 (2003).

Take notice that pursuant to the Commission's April 22 order in this docket, no later than May 14, 2003, the Commission shall re-release the data that was removed from the Commission's Web site pursuant to the April 7 notice but was not identified by any company or individual for permanent removal. The data that was identified for permanent removal will not be re-released, if at all, until the Commission's staff has reviewed the documents as directed by the April 22 order. The Commission will issue further orders as that review progresses.

Magalie R. Salas,
Secretary.

[FR Doc. 03-12623 Filed 5-19-03; 8:45 am]

BILLING CODE 6717-01-P